Proclamation 10408 of May 31, 2022

Great Outdoors Month, 2022

By the President of the United States of America

A Proclamation

During Great Outdoors Month, we celebrate our Nation's vast array of parks, wildlife refuges, forests, monuments, marine sanctuaries, waters, national conservation lands, and other natural treasures. Every day, Americans across the country draw inspiration and pride from the beauty of our magnificent outdoor spaces. From lush forests in Washington State and coral reefs in the Virgin Islands to snow-capped mountains in Alaska and rolling hills in Vermont—the grandeur of the American landscape fills our souls and fuels our spirit of adventure. These iconic and stunning natural wonders have always been central to our heritage as a people and essential to our identity as a Nation.

Boundless outdoor spaces across the country unite Americans of every age and background for hiking, fishing, canoeing, hunting, exploring, reflecting, and finding solace. As part of my Administration's efforts to advance equity, diversity, and inclusion, we are committed to ensuring that everyone can access and enjoy America's great outdoors. Outreach efforts—including the National Park Service's Rivers, Trails, and Conservation Assistance program—expand trails, conserve rivers, and restore green space so that more people can benefit. We are also enhancing safe outdoor resources for communities so that more people can participate in healthy, active outdoor recreation and enjoy the physical and spiritual nourishment it provides.

Today, our lands and waters face unprecedented threats from climate change that require historic action to safeguard and preserve them. That is why my Administration is setting ambitious environmental standards and making bold climate commitments for the United States: reducing greenhouse gas emissions by up to 52 percent by 2030, reaching 100 percent carbon pollution-free electricity by 2035, and achieving net-zero emissions economy-wide by 2050.

Together with our State, Tribal, and local partners, we also launched the America the Beautiful Initiative, our Nation's first-ever voluntary conservation goal, to conserve and restore 30 percent of America's lands and waters by 2030. We also spearheaded a $1 Billion America the Beautiful Challenge, combining Federal investments with private and philanthropic contributions to accelerate land, water, and wildlife conservation and restoration efforts across the country. And we are making critical investments through the Great American Outdoors Act for land acquisition and community-based conservation and recreation projects in national parks, national forests, public lands, and Tribal schools.

Land and ocean conservation is a crucial part of addressing the world's climate challenges. Proper stewardship protects the outdoors while contributing to sustainability, climate mitigation, and climate resilience. It is estimated that as much as one-third of the global emissions reductions needed to stabilize the world's climate can come from natural climate solutions. That's why I issued an Executive Order on Earth Day to strengthen our Nation's forests, communities, and local economies, and to take stock of nature and its benefits.

During Great Outdoors Month, I encourage Americans to take time to experience the natural wonders across our Nation. As we enjoy the great outdoor landscapes and seascapes, let us each recommit to doing our part in their stewardship, preservation, and sustainable use so they continue to be a source of inspiration for outdoor enthusiasts for generations to come.

NOW, THEREFORE, I, JOSEPH R. BIDEN JR., President of the United States of America, by virtue of the authority vested in me by the Constitution and the laws of the United States, do hereby proclaim June 2022 as Great Outdoors Month. I urge all Americans to explore the great outdoors, to experience our Nation's natural heritage, and to continue our Nation's tradition conserving our lands and waters for future generations.

IN WITNESS WHEREOF, I have hereunto set my hand this thirty-first day of May, in the year of our Lord two thousand twenty-two, and of the Independence of the United States of America the two hundred and forty-sixth.

[FR Doc. 2022-12124

Filed 6-2-22; 8:45 am]

Billing code 3395-F2-P